SOCIAL SECURITY ADMINISTRATION

[Docket No: SSA-2023-0006]

Agency Information Collection Activities: Proposed Request and Comment Request

The Social Security Administration (SSA) publishes a list of information collection packages requiring clearance by the Office of Management and Budget (OMB) in compliance with Public Law 104-13, the Paperwork Reduction Act of 1995, effective October 1, 1995. This notice includes two new collection and a revision of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Comments: https://www.reginfo.gov/public/do/PRAMain. Submit your comments online referencing Docket ID Number [SSA-2023-0006].

(SSA) Social Security Administration, OLCA, Attn: Reports Clearance Director, 3100 West High Rise, 6401 Security Blvd., Baltimore, MD 21235, Fax: 410-966-2830, Email address: OR.Reports.Clearance@ssa.gov.

Or you may submit your comments online through https://www.reginfo.gov/public/do/PRAMain, referencing Docket ID Number [SSA-2023-0023].

I. The information collection below is pending at SSA. SSA will submit it to OMB within 60 days from the date of this notice. To be sure we consider your comments, we must receive them no later than May 30, 2023. Individuals can obtain copies of the collection instrument by writing to the above email address.

State of Georgia's Criminal Justice Coordinating Council's (CJCC) Evaluation of the Implementation of the Supplemental Security Income (SSI)/Social Security Disability Insurance (SSDI) Outreach, Access, and Recovery (SOAR) Model in County Jails—0960-NEW.

Background

SSA is requesting clearance to collect data necessary to evaluate an intervention under the Interventional Cooperative Agreement Program (ICAP) with the State of Georgia's Criminal Justice Coordinating Council (CJCC). ICAP allows SSA to partner with various non-federal groups and organizations to advance interventional research connected to the Supplemental Security Income (SSI) and Social Security Disability Insurance (SSDI) programs. SSA awarded CJCC a cooperative agreement to conduct an intervention and evaluation of the Supplemental Security Income (SSI)/Social Security Disability Insurance (SSDI) Outreach, Access, and Recovery (SOAR) model in county jails with inmates with serious and persistent mental illness (SPMI) across the state. In addition to SSA, CJCC has partnered with the following: (1) Applied Research Services (ARS); (2) the Georgia Department of Behavioral Health and Developmental Disabilities (DBHDD); and (3) four county jails to implement the program.

ICAP CJCC Project Description

Investigators hypothesize that untreated mental illness and repeated psychiatric crises may be a factor in jail recidivism. Connection to SSI/SSDI and attendant insurance benefits may help a person with SPMI obtain treatment and interrupt criminogenic behavior. The intervention will connect respondents in four county jails identified as having SPMI to Medicaid Eligibility Specialists (MES) hired and trained by the Georgia DBHDD, who will help them apply for SSI and SSDI. Respondents in two of the four counties (Fulton County Jail and Cobb County Jail) will also have the option of working with a Forensic Peer Mentor (FPM), a formerly incarcerated individual who is familiar with resources that may help participants increase their quality-of-life post incarceration and avoid recidivism. SSA anticipates the two DBHDD MESs will each serve 45 participants per year, for a total of 90 participants per year.

To maximize the likelihood of the SSI/SSDI application approval, the MES will employ the SOAR method, which uses in-depth medical and personal summaries of disability to facilitate the SSI/SSDI application process. Researchers will collect data from participant surveys to evaluate and study the impact of the intervention. Through the data collected through these surveys, along with administrative data from SSA, the State of Georgia, participating counties, and DBHDD, SSA hopes to address the following research questions:

• Does connection to a SOAR-trained specialist increase the likelihood that a person with SPMI in jail will be approved for SSI/SSDI benefits?

• If a person with SPMI receives SSI/SSDI benefits, are they able to connect to treatment resources that they may not have been able to obtain before?

• If a person with SPMI connects to treatment resources and successfully engages with them, are they able to achieve mental health recovery and stay out of jail?

The respondents are individuals with serious and persistent mental illness incarcerated in county jails in the state of Georgia.

Modality of completion | Number of respondents | Frequency of response | Average burden per response (minutes) | Estimated total annual burden (hours) | Average theoretical hourly cost amount (dollars) * | Total annual opportunity cost (dollars) **
Initial Enrollment Survey (Paper) | 90 | 1 | 19 | 29 | * $12.81 | ** $371
Informed Consent (Paper) | 90 | 1 | 10 | 15 | * 12.81 | ** 192
Follow-up Survey (Internet) | 90 | 2 | 23 | 69 | * 12.81 | ** 884
Totals | 270 |  |  | 113 |  | ** 1,447
* We based this figure on the average DI payments based on SSA's current FY 2023 data (https://www.ssa.gov/legislation/2023factsheet.pdf).
** This figure does not represent actual costs that SSA is imposing on recipients of Social Security payments to complete this application; rather, these are theoretical opportunity costs for the additional time respondents will spend to complete the application. There is no actual charge to respondents to complete the application.

II. SSA submitted the information collections below to OMB for clearance. Your comments regarding these information collections would be most useful if OMB and SSA receive them 30 days from the date of this publication. To be sure we consider your comments, we must receive them no later than May 1, 2023. Individuals can obtain copies of these OMB clearance packages by writing to OR.Reports.Clearance@ssa.gov.

1. Vocational Resource Facilitator Demonstration—0960-NEW. SSA is undertaking the Vocational Resource Facilitator Demonstration (VRFD) under the ICAP. ICAP allows SSA to partner with various non-federal groups and organizations to advance interventional research connected to the SSI and SSDI programs. VRFD will test the Vocational Resource Facilitator (VRF) intervention, which helps newly injured spinal cord injury or disease (SCI), or brain injury (BI) patients pursue their employment goals. The VRFD will provide empirical evidence on the impact of the intervention on patients in several critical areas: (1) employment and earnings; (2) SSI and SSDI benefit receipt; and (3) satisfaction and well-being. A rigorous evaluation of VRFD is critical to help SSA and other interested parties assess promising options to improve employment-related outcomes and decrease benefit receipt. The VRFD evaluation uses a randomized control experimental design that includes one treatment group and one control group. Control group members will receive a referral for services to the Division of Vocational Rehabilitation Services (DVRS), New Jersey's state Vocational Rehabilitation agency. The treatment group will receive a referral to DVRS and employment services from a resource facilitator (RF). RFs are fully integrated members of clinical teams who engage with injured workers during inpatient rehabilitation about return to work. The central research questions include:

• Was the intervention implemented as planned?

• What are key considerations for scaling up or adopting the VRF model at other facilities?

• What were the impacts of VRF on outcomes of interest?

• Did treatment group members earn or work more than control group members?

• Were treatment group members relatively less likely to apply to or receive SSI or SSDI benefits?

• Did treatment group members experience greater satisfaction and well-being than control group members?

• What were the benefits and costs of the demonstration across key groups?

The proposed public survey data collections will support three components of the planned implementation, impact, and benefit-cost analyses. The data collection efforts will provide information that is not available in SSA program records about the characteristics and outcomes of VRFD participants in the treatment and control groups. Respondents are newly injured SCI and BI patients, who will provide written consent before agreeing to participate in the study and be randomly assigned to one of the study groups.

Type of Request: Request for a new information collection.

Modality of completion | Number of respondents | Frequency of response | Average burden per response (minutes) | Estimated total annual burden (hours) | Average theoretical hourly cost amount (dollars) * | Average wait time for teleservice centers (minutes) ** | Total annual opportunity cost (dollars) ***
Informed Consent Form | 500 | 1 | 10 | 83 | * $28.01 |  | *** $2,325
Baseline Survey | 500 | 1 | 15 | 125 | * 28.01 |  | *** 3,501
12-month Follow-up Survey | 400 | 1 | 20 | 133 | * 28.01 | ** 19 | *** 7,283
Staff Interviews with Site Staff | 10 | 2 | 66 | 22 | * 28.01 |  | *** 616
Onsite Audit of sample of case files | 1 | 2 | 30 | 1 | * 28.01 |  | *** 28
Totals | 1,411 |  |  | 364 |  |  | *** 13,753
* We based this figure on the average U.S. worker's hourly wages, as reported by Bureau of Labor Statistics data (https://www.bls.gov/oes/current/oes_nat.htm).
** We based this figure by averaging the average FY 2023 wait times for field offices and teleservice centers, based on SSA's current management information data.
*** This figure does not represent actual costs that SSA is imposing on recipients of Social Security payments to complete this application; rather, these are theoretical opportunity costs for the additional time respondents will spend to complete the application. There is no actual charge to respondents to complete the application.

2. Application for a Social Security Number Card, the Social Security Number Application Process (SSNAP), and internet SSN Replacement Card (iSSNRC) Application—20 CFR 422.103-422.110—0960-0066. SSA collects information on the SS-5 (used in the United States) and SS-5-FS (used outside the United States) to issue original or replacement Social Security cards. SSA also enters the application data into the SSNAP application when issuing a card via telephone or in person. In addition, hospitals collect the same information on SSA's behalf for newborn children through the Enumeration-at-Birth process. In this process, parents of newborns provide hospital birth registration clerks with information required to register these newborns. Hospitals send this information to State Bureaus of Vital Statistics (BVS), and they send the information to SSA's National Computer Center. SSA then uploads the data to the SSA mainframe along with all other enumeration data, and we assign the newborn a Social Security number (SSN) and issue a Social Security card. Respondents can also use these modalities to request a change in their SSN records. In addition, the iSSNRC internet application collects information similar to the paper SS-5 for no-change, and a name change due to marriage, replacement SSN cards for adult U.S. citizens. The iSSNRC modality allows certain applicants for SSN replacement cards to complete the internet application and submit the required evidence online rather than completing a paper Form SS-5. Finally, oSSNAP collects information similar to that which we collect on the paper SS-5 for no change situations, with the exception of a name change. oSSNAP allows applicants, both U.S. citizens and non-citizens, for new or replacement SSN cards to start the application process on-line, receive a list of evidentiary documents, and then submit the application data to SSA for further processing by SSA employees. Applicants need to visit a local SSA office to complete the application process. We are planning to make minor changes to clarify that one screen is optional, and to provide a space for respondents to inform SSA of the types of documents they will present during the in-person follow up meeting. The respondents for this information collection are applicants for original and replacement Social Security cards, or individuals who wish to change information in their SSN records, who use any of the modalities described above.

Type of Request: Revision of an OMB-approved information collection.

Application scenario | Number of respondents | Frequency of response | Average burden per response (minutes) | Estimated total annual burden (hours) | Average theoretical hourly cost amount (dollars) * | Average wait time in field office (minutes) ** | Total annual opportunity cost (dollars) ***
EAB Modality
Hospital staff who relay the State birth certificate information to the BVS and SSA through the EAB process | 3,759,517 | 1 | 5 | 313,293 | * $24.49 | ** 0 | *** $7,672,546
iSSNRC Modality
Adult U.S. Citizens requesting a replacement card with no changes through the iSSNRC | 3,002,698 | 1 | 5 | 250,225 | * 28.01 | ** 0 | *** 7,008,802
Adult U.S. Citizens requesting a replacement card with a name change through iSSNRC | 1,312 | 1 | 5 | 109 | * 28.01 | ** 0 | *** 3,053
oSSNAP Modality
Adult U.S. Citizens providing information to receive a replacement card through the oSSNAP + | 822,104 | 1 | 5 | 68,509 | * 28.01 | ** 24 | *** 11,129,802
Adult U.S. Citizens providing information to receive an original card through the oSSNAP + | 37,323 | 1 | 5 | 3,110 | * 28.01 | * 24 | *** 505,272
Adult Non-U.S. Citizens providing information to receive an original card through the oSSNAP + | 204,081 | 1 | 5 | 17,007 | * 28.01 | ** 24 | *** 2,762,878
Adult Non-U.S. Citizens providing information to receive a replacement card through the oSSNAP + | 84,635 | 1 | 5 | 7,053 | * 28.01 | ** 24 | *** 1,145,805
SSNAP/SS-5 Modality
Respondents who do not have to provide parents' SSNs | 6,973,505 | 1 | 9 | 1,046,026 | * 28.01 | ** 24 | *** 107,430,338
Respondents whom we ask to provide parents' SSNs (when applying for original SSN cards for children under age 12) | 207,521 | 1 | 9 | 31,128 | * 28.01 | ** 24 | *** 3,196,949
Applicants age 12 or older who need to answer additional questions so SSA can determine whether we previously assigned an SSN | 1,113,144 | 1 | 10 | 185,524 | * 28.01 | ** 24 | *** 17,668,204
Applicants asking for a replacement SSN card beyond the allowable limits (i.e., who must provide additional documentation to accompany the application) | 6,703 | 1 | 60 | 6,703 | * 28.01 | ** 24 | *** 262,846
Enumeration Quality Review
Authorization to SSA to obtain personal information cover letter | 500 | 1 | 15 | 125 | * 28.01 | ** 24 | *** 9,103
Authorization to SSA to obtain personal information follow-up cover letter | 500 | 1 | 15 | 125 | * 28.01 | ** 24 | *** 9,103
Grand Total
Totals | 16,213,543 |  |  | 1,928,937 |  |  | *** 159,309,973
+ The number of respondents for this modality is an estimate based on google analytics data for the SS-5 form downloads from SSA.Gov.
* We based this figure on average Hospital Records Clerks (https://www.bls.gov/oes/current/oes292098.htm), and average U.S. worker's hourly wages (https://www.bls.gov/oes/current/oes_nat.htm) as reported by the U.S. Bureau of Labor Statistics.
** We based this figure on the average FY 2023 wait times for field offices, based on SSA's current management information data.
*** This figure does not represent actual costs that SSA is imposing on recipients of Social Security payments to complete this application; rather, these are theoretical opportunity costs for the additional time respondents will spend to complete the application. There is no actual charge to respondents to complete the application.

Dated: March 28, 2023.
Naomi Sipple,
Reports Clearance Officer, Social Security Administration.

[FR Doc. 2023-06682 Filed 3-30-23; 8:45 am]

BILLING CODE 4191-02-P